POSTAL SERVICE

39 CFR Parts 310 and 320

Restrictions on Private Carriage of Letters

AGENCY: Postal Service™

ACTION: Final rule.

SUMMARY: This rule amends the Postal Service regulations on the enforcement and suspension of the Private Express Statutes to correct obsolete addresses.

DATES: Effective Date: March 15, 2010.

FOR FURTHER INFORMATION CONTACT: Garry Rodriguez, 202-268-7281.

SUPPLEMENTARY INFORMATION: Amendment of parts 310 and 320 is necessary to correct the addresses for inquiries and other correspondence regarding enforcement of the Private Express Statutes.

List of Subjects in 39 CFR Parts 310 and 320

Advertising; Computer technology.

For the reasons set forth above, the Postal Service amends 39 CFR Chapter I, Subchapter E as follows:

PART 310—[AMENDED]

1. The authority citation for 39 CFR part 310 continues to read as follows:

Authority: 39 U.S.C. 401, 404, 601-606; 18 U.S.C. 1693-1699.

2. Revise § 310.5(b) to read as follows:

§ 310.5 Payment of postage on violation.

* * * * *

(b) The amount equal to postage will be due and payable not later than 15 days after receipt of formal demand from the Inspection Service or the Manager, Mailing Standards, USPS Headquarters, unless an appeal is taken to the Judicial Officer Department in accordance with rules of procedure set out in part 959 of this chapter.

* * * * *

3. Revise § 310.6 to read as follows:

§ 310.6 Advisory opinions.

An advisory opinion on any question arising under this part and part 320 of this chapter may be obtained by writing the General Counsel, U.S. Postal Service, 475 L'Enfant Plaza SW., Washington, DC 20260-1100. A numbered series of advisory opinions is available for inspection by the public in the Library of the U.S. Postal Service, and copies of individual opinions may be obtained upon payment of charges for duplicating services.

PART 320—[AMENDED]

4. The authority citation for 39 CFR Part 320 continues to read as follows:

Authority: 39 U.S.C. 401, 404, 601-606; 18 U.S.C. 1693-1699.

5. In § 320.3:

a. Revise paragraph (a) to read as set forth below; and

b. Amend paragraph (b) in the second sentence by removing the words “the RCSC” and adding the words “Mailing Standards” in their place.

§ 320.3 Operations under suspension for certain data processing materials.

(a) Carriers intending to establish or alter operations based on the suspension granted pursuant to § 320.2 shall, as a condition to the right to operate under the suspension, notify the Manager, Mailing Standards, U.S. Postal Service, 475 L'Enfant Plaza SW, Rm. 3436, Washington, DC 20260-3436, of their intention to establish such operations not later than the beginning of such operations. Such notification, on a form available from the office of Mailing Standards, shall include information on the identity and authority of the carrier and the scope of its proposed operations.

* * * * *

Stanley F. Mires,
Chief Counsel, Legislative.

[FR Doc. 2010-5622 Filed 3-12-10; 8:45 am]

BILLING CODE 7710-12-P